DEPARTMENT OF DEFENSE

Office of the Secretary

[Transmittal No. 22-50]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-50 with attached Policy Justification.

Dated: June 10, 2024.
Aaron T. Siegel,
Alternate OSD Federal Register Liaison Officer, Department of Defense.

BILLING CODE 6001-FR-P

BILLING CODE 6001-FR-C

Transmittal No. 22-50

Notice of Proposed Issuance of Letter of Offer Pursuant to Section 36(b)(1) of the Arms Export Control Act, as amended

(i) Prospective Purchaser: Government of Greece

(ii) Total Estimated Value:

Major Defense Equipment * | $ 0 million
Other | $162.07 million
TOTAL | $162.07 million

Funding Source: National Funds

(iii) Description and Quantity or Quantities of Articles or Services Under Consideration for Purchase: Foreign Military Sales (FMS) case GR-P-BBK, was below congressional notification threshold at $89.47 million (all non-MDE) and included equipment and services to continue support and sustainment of S-70B helicopters. The Government of Greece has requested the case be amended to increase funding and add Contractor Logistics Support/Field Service Representative and/or Contractor provided in-service training. This amendment will push the current case above the non-MDE notification threshold and thus requires notification of the entire case.

Major Defense Equipment (MDE):

None

Non-MDE:

Included is follow-on support and sustainment of S-70 helicopters including: aircraft spares; consumables, repair parts, components and accessories to support S-70B/S-70B6 aircraft; repair of S-70 type aircraft and procurement of parts to include aircraft mission system upgrades; existing radar and sonar obsolescence management; gun mount procurement; unclassified publications required for aircraft operation and maintenance (in the English language); U.S. Government and contractor technical assistance and services; expedited contractual award efforts; evaluation and tailoring solutions of technical issues; provide inputs to planning documents; integration, engineering, testing requirements, obsolescence remediation, equipment upgrades, planned product improvements, Integrated Logistic Support (ILS) management services, and Return, Repair and Reshipment of unserviceable repairable items/equipment; spare parts; Original Equipment Manufacturer (OEM) technical services; technical assistance and travel; OEM program management in the Continental U.S. (CONUS) and Greece; obsolescence driven upgrades; OEM/contractor upgrade program management; engineering analyses, studies and development/validation/test of upgrade solutions; retrofit kit procurement and subsequent installation; publications and Repair of Repairable efforts; Contractor Logistics Support to include Field Service Representative and/or Contractor provided in-service training; and other related elements of logistics and program support.

(iv) Military Department: Navy (GR-P-BBK)

(v) Prior Related Cases, if any: None

(vi) Sales Commission, Fee, etc., Paid, Offered, or Agreed to be Paid: None

(vii) Sensitivity of Technology Contained in the Defense Article or Defense Services Proposed to be Sold: None

(viii) Date Report Delivered to Congress: August 1, 2022

* As defined in Section 47(6) of the Arms Export Control Act.

POLICY JUSTIFICATION

Greece—S-70B Program Follow-On Support and Sustainment

The Government of Greece has requested to buy follow-on support and sustainment of S-70 helicopters including: aircraft spares; consumables, repair parts, components and accessories to support S-70B/S-70B6 aircraft; repair of S-70 type aircraft and procurement of parts to include aircraft mission system upgrades; existing radar and sonar obsolescence management; gun mount procurement; unclassified publications required for aircraft operation and maintenance (in the English language); U.S. Government and contractor technical assistance and services; expedited contractual award efforts; evaluation and tailoring solutions of technical issues; provide inputs to planning documents; integration, engineering, testing requirements, obsolescence remediation, equipment upgrades, planned product improvements, Integrated Logistic Support (ILS) management services, and Return, Repair and Reshipment of unserviceable repairable items/equipment; spare parts; Original Equipment Manufacturer (OEM) technical services; technical assistance and travel; OEM program management in the Continental U.S. (CONUS) and Greece; obsolescence driven upgrades; OEM/contractor upgrade program management; engineering analyses, studies and development/validation/test of upgrade solutions; retrofit kit procurement and subsequent installation; publications and Repair of Repairable efforts; Contractor Logistics Support to include Field Service Representative and/or Contractor provided in-service training; and other related elements of logistics and program support. The estimated total cost is $162.07 million.

This proposed sale will support the foreign policy and national security objectives of the United States by helping to improve the security of a NATO ally, which is an important partner for political stability and economic progress in Europe.

The proposed sale will improve Greece's capability to meet current and future threats by providing an effective combatant deterrent capability to protect maritime interests and infrastructure in support of its strategic location on NATO's southern flank. Follow-on support and sustainment of Greece's existing fleet of S-70 helicopters enhances stability and maritime security in the Eastern Mediterranean region and contribute to security and strategic objectives of NATO and the United States. Greece contributes to NATO operations, as well as to counterterrorism and counter-piracy maritime efforts and performs invaluable Search and Rescue (SAR) functions in the region. Greece will have no difficulty absorbing this equipment and services into its armed forces.

The proposed sale of this equipment and support will not alter the basic military balance in the region.

The principal contractor will be Lockheed Martin, Bethesda, MD. There are no known offset agreements proposed in connection with this potential sale.

Implementation of this sale will not require the assignment of any U.S. Government personnel but will require one (1) contractor representative, Full-Time Equivalent (FTE) position to Greece to continue follow-on support and sustainment to Greece's S-70B/S-70B6 helicopters.

There will be no adverse impact on U.S. defense readiness as a result of this proposed sale.

[FR Doc. 2024-12954 Filed 6-12-24; 8:45 am]

BILLING CODE 6001-FR-P